ENVIRONMENTAL PROTECTION AGENCY

[FRL—8947-7]

Science Advisory Board Staff Office; Notification of Two Public Teleconference Meetings of the Chartered Science Advisory Board

AGENCY: Environmental Protection Agency (EPA).

ACTION: Notice.

SUMMARY: The EPA Science Advisory Board (SAB) Staff Office announces two public teleconference meetings of the chartered SAB to conduct reviews of two draft SAB reports and to conduct additional business.

DATES: The meeting dates will be Wednesday, September 23, 2009 from 1 p.m. until 4 p.m. and Thursday, September 24, 2009, from 1 p.m. until 4 p.m. (all times are Eastern Time).

ADDRESSES: The meetings will be conducted by telephone only.

FOR FURTHER INFORMATION CONTACT: Any member of the public wishing to obtain general information concerning this public teleconference meeting should contact Mr. Thomas Miller, Designated Federal Officer (DFO), EPA Science Advisory Board (1400F), 1200 Pennsylvania Avenue, NW., Washington, DC 20460; via telephone/voice mail (202) 343-9982; fax (202) 233-0643; or e-mail at miller.tom@epa.gov. General information concerning the EPA Science Advisory Board can be found on the SAB Web site at http://www.epa.gov/sab.

SUPPLEMENTARY INFORMATION: Pursuant to the Federal Advisory Committee Act, 5 U.S.C., App. 2 (FACA), notice is hereby given that the EPA Science Advisory Board will hold a public meeting to conduct two reviews of draft SAB committee reports and to conduct other business as noted. The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background: (a) SAB Quality Review of the Draft SAB Report on Reactive Nitrogen in the United States. The Chartered Science Advisory Board will conduct a review of the SAB Integrated Nitrogen Committee (INC) draft report: Reactive Nitrogen in the United States; An Analysis of Inputs, Flows, Consequences, and Management Options from 1 p.m. until not later than 4 p.m. on Wednesday, September 23, 2009. Reactive nitrogen, a form of nitrogen consisting mainly of ammonium and nitrate, is “fixed” by natural or human-driven processes or recycled from decaying organic matter. Increasing quantities of reactive nitrogen released by human activities, such as the production and use of synthetic fertilizers, burning of fossil fuel, and planting of nitrogen-fixing crops currently surpasses the amount of nitrogen fixed by natural processes (e.g., microbial activities, wildfire). Adverse environmental effects may occur when reactive nitrogen occurs in amounts that exceed what the ecosystem can normally use or recycle. Adverse effects may include degradation of air and water quality, harmful algae blooms, hypoxia, fish kills, loss of drinking water supplies, loss of biodiversity, forest declines, and human health effects.

The SAB Integrated Nitrogen Committee undertook this study to assess linkages among the environmental effects of reactive nitrogen and to explore their implications for nitrogen research and risk management. The study recommends a more integrated approach to reactive nitrogen research and identifies opportunities for integrated approaches for nitrogen management. Information about the work of the SAB Integrated Nitrogen Committee is available on the SAB Web site at http://yosemite.epa.gov/sab/sabproduct.nsf/fedrgstr_activites/Nitrogen%20Project?OpenDocument.

(b) SAB Quality Review of the Draft Radiation Advisory Committee Report on Radiogenic Cancer Risk. The chartered Science Advisory Board will conduct a quality review of the draft report from its Radiation Advisory Committee during its teleconference scheduled from 1 p.m. until 4 p.m. on Thursday, September 24, 2009. EPA's Office of Air and Radiation requested an SAB review of a draft document entitled EPA Radiogenic Cancer Risk Models and Projections for the U.S. Population dated December 2008. EPA's draft document discusses a revised approach to cancer dose-response assessment for radionuclides, based on recommendations in the National Academies of Science 2005 report on Biological Effects of Ionizing Radiation (known as the BEIR VII report) as modified and expanded for EPA's purposes. At this teleconference, the SAB will conduct a quality review of the SAB Radiation Advisory Committee's draft advisory on this EPA draft document. Information about this work of the SAB Radiation Advisory Committee is available on the SAB Web site at http://yosemite.epa.gov/sab/sabproduct.nsf/fedrgstr_activites/%E2%80%9CRevised%20Book%E2%80%9D?OpenDocument. The SAB will also discuss plans for future SAB advisory activities.

Availability of Meeting Materials: The agenda and other materials in support of these meetings will be placed on the SAB Web site at http://www.epa.gov/sab in advance of each meeting.

Procedures for Providing Public Input: Interested members of the public may submit relevant written or oral information for the SAB to consider during this teleconference. Oral Statements: In general, individuals or groups requesting time to make an oral presentation at a public SAB teleconference will be limited to three minutes, with no more than one-half hour for all speakers. To be placed on the public speakers list for the September 23 and September 24, 2009 teleconferences, interested individuals should contact Mr. Thomas Miller, DFO, in writing (preferably by e-mail), by September 14, 2009 at the contact information provided above. Written Statements: Written statements relevant to the September 23 and September 24, 2009 teleconferences should be received in the SAB Staff Office by September 15, 2009 so that the information may be made available to the SAB for their consideration prior to the teleconference meeting. Written statements should be supplied to the DFO via e-mail to miller.tom@epa.gov (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Mr. Thomas Miller at (202) 343-9982, or miller.tom@epa.gov. To request accommodation of a disability, please contact Mr. Miller, preferably at least 10 days prior to the meeting, to give EPA as much time as possible to process your request.

Dated: August 14, 2009.
Vanessa T. Vu,
Director, EPA Science Advisory Board Staff Office.

[FR Doc. E9-20171 Filed 8-20-09; 8:45 am]

BILLING CODE 6560-50-P